ENVIRONMENTAL PROTECTION AGENCY

40 CFR Part 62

[EPA-R07-OAR-2018-0005; FRL-9974-15-Region 7]

Approval of State Plans for Designated Facilities and Pollutants; Missouri; Hospital, Medical, and Infectious Waste Incineration (HMIWI) Units

AGENCY: Environmental Protection Agency (EPA).

ACTION: Proposed rule.

SUMMARY: The Environmental Protection Agency (EPA) is proposing to approve revisions to the Missouri state plan for designated facilities and pollutants developed under sections 111(d) and 129 of the Clean Air Act (CAA) that were requested by Missouri Department of Natural Resources (MDNR) in two separate submissions made on August 8, 2011 and on July 3, 2014. This proposed action will amend the state regulations referenced in the state's 111(d) plan applicable to existing Hospital, Medical, Infectious Waste Incinerators (HMIWI) operating in the state of Missouri. The state rule revisions we are proposing to approve with this action update HMIWI regulatory requirements for emission limits for waste management plans, training, compliance and performance testing, monitoring, and reporting and recordkeeping to be consistent with updates to Federal rules. These regulatory revisions proposed for approval into Missouri's state plan do not impact air quality. EPA's proposed approval of this revision is being done in accordance with the requirements of CAA section 111(d) as further described in the Technical Support Document that is included in this docket.

DATES: Comments must be received on or before March 8, 2018.

ADDRESSES: Submit your comments, identified by Docket ID No. EPA-R07-OAR-2018-0005, to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Larry Gonzalez, Environmental Protection Agency, Air Planning and Development Branch, 11201 Renner Boulevard, Lenexa, Kansas 66219 at (913) 551-7041 or by email at gonzalez.larry@epa.gov.

SUPPLEMENTARY INFORMATION: Throughout this document “we,” “us,” or “our” refer to EPA. This section provides additional information by addressing the following:

I. What is being addressed in this document?

II. Background

III. Analysis of State Submittal

IV. What action is EPA taking?

V. Statutory and Executive Order Reviews

I. What is being addressed in this document?

EPA is proposing to approve revisions to the regulations cited in Missouri's state plan for HMIWI facilities and pollutants developed under sections 111(d) and 129 of the CAA that were requested by MDNR in two separate submissions made on August 8, 2011 and on July 3, 2014. This regulatory action is a revision to the State's regulatory requirements for existing facilities and not new sources. The amended state rule limits emissions of metals, particulate matter, acid gases, organic compounds, carbon monoxide, and opacity. These rule revisions are necessary to ensure that the state regulations applicable to HMIWI are consistent with updates to Federal rules for HMIWI.

The August 8, 2011, submittal updates requirements for emission limits, waste management plans, training, compliance and performance testing, monitoring, and reporting and recordkeeping requirements that apply to existing HMIWI facilities. Additionally, the state's regulatory revisions also include the movement of definitions, previously located in the state rule that applies specifically to HMIWI (10 CSR 10-6.200) to a new regulatory section that contains definitions applicable to air rules in general (10 CSR 10-6.020).

On April 4, 2011 (76 FR 18407), and May 13, 2013 (78 FR 28051), EPA promulgated revisions to the Federal HMIWI guidelines that corrected errors made in calculating the emission standard for certain classes of HMIWI and pollutants, and eliminated the startup, shutdown, and malfunction (SSM) exemption. In addition, EPA revised the Federal Plan applicable to HMIWI sources that are not subject to an EPA approved and effective State plan and that meet additional criteria specified in 40 CFR part 62, subpart HHH. See 78 FR 28051. Missouri submitted a revision to their state plan on July 3, 2014, that addressed the above revisions promulgated by EPA.

In the July 3, 2014, request, Missouri is seeking approval of additional revisions made to 10 CSR 10-6.200 that revise the regulations to follow the revised Federal standards. In addition to updating the emission standard tables, the revisions remove language from the compliance and performance testing provisions applicable to HMIWI that provided an exemption to compliance with the emission limits during startup, shutdown and malfunction conditions. Additionally, the state revised the hierarchy of definitions to clearly state that the applicable definitions in the Code of Federal Regulations take precedence over those in 10 CSR 10-6.020, and revised the test methods references in the state rule to match how the test methods are referred to in the Federal HMIWI regulations.

This proposed action addresses both requests to amend the state plan by amending the underlying regulation referenced in the 111(d) plan applicable to HMIWI.

II. Background

Section 111(d) of the CAA requires states to submit plans to control certain pollutants (designated pollutants) at existing facilities (designated facilities) whenever standards of performance have been established under section 111(b) for new sources of the same type and EPA has established emission guidelines (EG) for such existing sources. A designated pollutant is any pollutant for which no air quality criteria have been issued, and which is not included on a list published under section 108(a) or section 112(b)(1)(A) of the CAA, but emissions of which are subject to a standard of performance for new stationary sources. EPA has codified emission guidelines and compliance times for existing HMIWI facilities at 40 CFR part 60, subpart Ce and has codified New Source Performance Standards (NSPS) for new HMIWI facilities at 40 CFR part 60, subpart Ec. EPA also finalized a Federal Plan applicable to HMIWI following promulgation of EGs. EPA finalized the Federal Plan applicable to HMIWI at 40 CFR part 62 subpart HHH on May 13, 2013 (discussed later). The Federal Plan is applied in states that fail to submit or revise a 111(d) plan in response to the promulgation of new or revised EGs.

The CAA requires that state regulatory agencies implement the EGs and compliance times using a state plan developed under sections 111(d) and 129 of the CAA. Section 111(d) establishes general requirements and procedures for state plan submittals for the control of designated pollutants. Section 129 requires emission guidelines to be promulgated for all categories of solid waste incineration units, including HMIWI units.

Section 129 mandates that all plan requirements be at least as protective and restrictive as the promulgated emission guidelines. This includes fixed final compliance dates, fixed compliance schedules, and Title V permitting requirements for all affected sources. Section 129 also requires that state plans be submitted to EPA within one year after EPA's promulgation of the emission guidelines and compliance times.

On June 15, 1999, MDNR submitted their original section 111(d) state plan for HMIWI to EPA for approval. This 1999 submission was to comply with the 40 CFR Subpart Ce Emission Guidelines (EGs) for existing HMIWI that were promulgated at 62 FR 48374. The EGs applied to exisiting HMIWI that commenced construction on or before June 20, 1996. MDNR adopted the EG requirements into state rule 10 CSR 10-6.200 “Hospital, Medical, Infectious Waste Incinerators,” which was effective on July 30, 1999. EPA approved Missouri's June 15, 1999, section 111(d) state plan on August 19, 1999 (64 FR 45184). EPA approved a subsequent revision to Missouri's 111(d) plan on October 12, 2001 (66 FR 52020).

On October 6, 2009, in accordance with sections 111 and 129 of the Act, EPA promulgated revised HMIWI EGs and compliance schedules for the control of emissions from HMIWI units. See 74 FR 51368. A HMIWI unit as defined in 40 CFR 60.51c as any device that combusts any amount of hospital waste and/or medical/infectious waste. EPA codified these revised EGs at 40 CFR part 60, subpart Ce. Under section 129(b)(2) of the Act and the revised EGs at subpart Ce, states with subject sources must submit to EPA plans that implement the revised EGs.

On April 4, 2011, the EPA promulgated amendments to the NSPS and EGs, correcting inadvertent drafting errors in the NSPS and EGs and clarifying that compliance with the EGs must be expeditious if a compliance extension is granted. See 76 FR 18407.

On May 13, 2013, EPA promulgated a final rule amending the NSPS, emission guidelines, and establishing a revised Federal Plan for HMIWI which eliminated the SSM exemption. See 78 FR 28051.

Missouri's August 8, 2011, and July 3, 2014, submittals amend the state's plan for managing HMIWI facilities in accordance with Federal guidelines promulgated in 2009 through 2013. In response to the final rules promulgated by EPA in 2009 and 2013, EPA received two requests from MDNR to revise the state's 111(d) plan. EPA did not act to approve the first MDNR request to amend their 111(d) plan because of changes being made to the Federal emission guidelines due to a series of EPA proposals and final actions that would result in subsequent changes to submitted state plans. Following this series of proposals, final rules, and the correction notice published by EPA, MDNR submitted its July 2014 request to revise their 111(d) plan, and the EPA elected to process the MDNR requests together. Therefore this proposed action addresses components from both MDNR requests to approve revisions to the state's 111(d) plan applicable to HMIWI.

III. Analysis of State Submittal

The state's request to amend the state plan (through the amendment of the underlying applicable regulations found at 10 CSR 10-6.200) were received on August 12, 2011, and July 7, 2014, in accordance with the requirements for adoption and submittal of state plans for designated facilities in 40 CFR part 60, subpart B. The revised plan establishes emission limits for existing HMIWI, and provides for the implementation and enforcement of those limits. Missouri's plan includes all documentation that all of these requirements have been met. The emission limits, testing, monitoring, reporting and recordkeeping requirements, and other aspects of the Federal rule have been adopted. Missouri rule 10 CSR 10-6.200 contains all applicable requirements.

The state provided evidence that it complied with the public notice and comment requirements of 40 CFR part 60 Subpart B. MDNR received two comments to their proposal to revise the HMIWI regulations at 10 CSR 10-6.200 in July of 2011. The first comment requested that MDNR replace table 1 in the 10-6.200 with table IB from the April 4, 2011 EPA final rule. In response, MDNR explained that table IB in the EPA rule applied only to new sources and the proposed MDNR table 1 applied to existing sources—and therefore the table would not be changed. The second comment expressed support for the proposed amendments and again no change was made as a result of the comment. In the second proposal to amend the HMIWI regulations, to remove the SSM exemption and match how the Federal HMIWI rules refer to EPA test methods, MDNR received no comments.

A technical support document analyzing the regulatory changes MDNR made to their HMIWI rules is included in this docket (EPA-R07-OAR-2018-0005). This review contains a line by line analysis of the revisions to Missouri rule 10 CSR 10-6.200 which are in accordance with the regulatory revisions made by EPA to 40 CFR part 60 subpart Ce, and part 62 subpart HHH.

IV. What action is EPA taking?

Based on the rationale discussed above, EPA is proposing to approve Missouri's August 8, 2011, and July 3, 2014, submittals of its amended 111(d) plan for HMIWI.

V. Statutory and Executive Order Reviews

Under Executive Order 12866 (58 FR 51735, October 4, 1993), this action is not a “significant regulatory action” and therefore is not subject to review under Executive Orders 12866 and 13563 (76 FR 3821, January 21, 2011). This action is not subject to review under Executive Order 13771 (82 FR 9339, February 2, 2017) regulatory action because SIP approvals are exempted under Executive Order 12866. This action is also not subject to Executive Order 13211, “Actions Concerning Regulations That Significantly Affect Energy Supply, Distribution, or Use” (66 FR 28355, May 22, 2001). This action merely proposes to approve state law as meeting Federal requirements and imposes no additional requirements beyond those imposed by state law. Accordingly, the Administrator certifies that this rulemaking will not have a significant economic impact on a substantial number of small entities under the Regulatory Flexibility Act (5 U.S.C. 601 et seq.). Because this rulemaking would approve pre-existing requirements under state law and does not impose any additional enforceable duty beyond that required by state law, it does not contain any unfunded mandate or significantly or uniquely affect small governments, as described in the Unfunded Mandates Reform Act of 1995 (Pub. L. 104-4).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action also does not have Federalism implications because it does not have substantial direct effects on the States, on the relationship between the national government and the States, or on the distribution of power and responsibilities among the various levels of government, as specified in Executive Order 13132 (64 FR 43255, August 10, 1999). Thus Executive Order 13132 does not apply to this action. This action merely proposes to approve a state rule implementing a Federal standard, and does not alter the relationship or the distribution of power and responsibilities established in the CAA. This rulemaking also is not subject to Executive Order 13045, “Protection of Children from Environmental Health Risks and Safety Risks” (62 FR 19885, April 23, 1997) because it proposes to approve a state rule implementing a Federal standard.

In reviewing SIP submissions, EPA's role is to approve state choices, provided that they meet the criteria of the CAA. In this context, in the absence of a prior existing requirement for the State to use voluntary consensus standards (VCS), EPA has no authority to disapprove a state submission for failure to use VCS. It would thus be inconsistent with applicable law for EPA when it reviews a state submission, to use VCS in place of a state submission that otherwise satisfies the provisions of the CAA. Thus, the requirements of section 12(d) of the National Technology Transfer and Advancement Act of 1995 (15 U.S.C. 272 note) do not apply. This action does not impose an information collection burden under the provisions of the Paperwork Reduction Act of 1995 (44 U.S.C. 3501 et seq.). Burden is defined at 5 CFR 1320.3(b).

List of Subjects in 40 CFR Part 62

Environmental protection, Air pollution control, Administrative practice and procedure, Hospital, medical, and infectious incineration units, Intergovernmental relations, Reporting and recordkeeping requirements.

Dated: January 26, 2018.
James B. Gulliford,
Regional Administrator, Region 7.

For the reasons stated in the preamble, EPA proposes to amend 40 CFR part 62 as set forth below:

PART 62—APPROVAL AND PROMULGATION OF STATE PLANS FOR DESIGNATED FACILITIES AND POLLUTANTS

1. The authority citation for part 62 continues to read as follows:

Authority: 42 U.S.C. 7401 et seq.

Subpart AA—Missouri

2. Amend § 62.6358 by adding paragraph (e) to read as follows:

§ 62.6358 Identification of plan.

* * * * *

(e) Amended plan. Submitted by the Missouri Department of Natural Resources on July 3, 2014 and August 8, 2011. The effective date of the amended plan is April 9, 2018.

[FR Doc. 2018-02339 Filed 2-5-18; 8:45 am]

BILLING CODE 6560-50-P